DEPARTMENT OF AGRICULTURE

Rural Utilities Service

7 CFR Parts 1700 and 1709

RIN 0572-AB91

Assistance to High Energy Cost Rural Communities

AGENCY: Rural Utilities Service, USDA.

ACTION: Notice of confirmation of direct final rule.

SUMMARY: The Rural Utilities Service (RUS) hereby gives notice that no adverse comments were received regarding the direct final rule on Assistance to High Energy Cost Rural Communities, and confirms the effective date of the direct final rule.

DATES: The direct final rule published in the Federal Register on February 2, 2005 (70 FR 5349) is effective March 21, 2005.

FOR FURTHER INFORMATION CONTACT: Karen Larsen, Management Analyst, U.S. Department of Agriculture, Rural Utilities Service, Electric Program, 1400 Independence Ave., SW., Stop 1560, Room 5165-S, Washington, DC 20250-1560. Telephone (202) 720-9545, fax (202) 690-0717, e-mail address: Karen.Larsen@usda.gov.

SUPPLEMENTARY INFORMATION:

Background

The Rural Utilities Service (RUS) is adopting regulations at 7 CFR parts 1700 and 1709 implementing its financial assistance programs for rural communities with extremely high energy costs. These programs are authorized under section 19 of the Rural Electrification Act of 1936, as amended. This direct final rule is intended to establish and clarify eligibility and application requirements, the review and approval process, and grant administration procedures for RUS grants to rural communities with extremely high energy costs and for grants to State entities for bulk fuel revolving loan funds.

Confirmation of Effective Date

This is to confirm the effective date of March 21, 2005, for the direct final rule, 7 CFR parts 1700 and 1709, Assistance to High Energy Cost Rural Communities, published in the Federal Register on February 2, 2005.

Dated: March 29, 2005.
Curtis M. Anderson,
Acting Administrator, Rural Utilities Service.

[FR Doc. 05-6717 Filed 4-4-05; 8:45 am]

BILLING CODE 3410-15-P